DEPARTMENT OF ENERGY

Orders Granting Authority To Import and Export Natural Gas, To Import and Export Liquefied Natural Gas, and Vacating Authority During November 2016

AGENCY: Office of Fossil Energy, Department of Energy.

ACTION: Notice of orders.

| FE Docket Nos.
CONSTELLATION ENERGY SERVICES, INC | 15-40-NG
CNE GAS SUPPLY, LLC | 15-76-NG
CNE GAS SUPPLY, LLC | 16-14-NG
BG ENERGY MERCHANTS, LLC | 16-74-NG
MAGNOLIA LNG, LLC | 13-132-LNG
NORTHWESTERN CORPORATION d/b/a NORTHWESTERN ENERGY | 16-142-NG
ENERGIA DE CHIHUAHUA, S.A. DE C.V | 6-159-NG
GDF SUEZ ENERGY MARKETING NA, INC | 16-161-NG
ALLIANCE PIPELINE L.P | 16-149-NG
ACCESS GAS SERVICES (ONTARIO) INC | 16-148-NG
BOSTON GAS CO. d/b/a NATIONAL GRID | 16-150-NG
NIAGARA MOHAWK POWER CORPORATION d/b/a NATIONAL GRID | 16-155-NG
SEMCO ENERGY, INC., d/b/a SEMCO ENERGY GAS COMPANY | 16-143-NG
UGI ENERGY SERVICES | 16-145-NG
VITOL INC. | 16-160-NG
MEXICANA DE COBRE, S.A. DE C.V | 16-163-NG
COLONIAL GAS COMPANY d/b/a NATIONAL GRID | 16-151-NG
THE NARRAGANSETT ELECTRIC COMPANY d/b/a NATIONAL GRID | 16-152-NG
KEYSPAN GAS EAST CORPORATION d/b/a NATIONAL GRID | 16-154-NG
THE BROOKLYN UNION GAS COMPANY d/b/a NATIONAL GRID | 16-153-NG
ENERGIA DE BAJA CALIFORNIA, S. de R.L. DE C.V | 16-162-NG
SEQUENT ENERGY MANAGEMENT, L.P | 16-158-NG
EXELON GENERATION COMPANY, LLC | 16-166-NG
SPECTRUM LNG LLC | 16-186-LNG
CARIB ENERGY | 16-98-LNG
POWEREX CORP. | 16-170-NG
BP ENERGY COMPANY | 16-171-NG
HUSKY MARKETING AND SUPPLY COMPANY | 16-179-NG
STAND ENERGY CORPORATION | 16-168-NG
CENTRAL GENERADORA ELECTRICA HUINALA, S. DE R.L. DE C.V. | 16-172-NG
FERUS NATURAL GAS FUELS (CNG), LLC | 16-169-NG
CASTLETON COMMODITIES MERCHANT TRADING L.P. | 16-175-NG
DIRECT ENERGY BUSINESS MARKETING, LLC | 16-174-NG
MC GLOBAL GAS CORPORATION | 16-167-LNG
UNITED ENERGY TRADING, LLC | 16-185-NG
MPOWER ENERGY | 16-184-NG
MANSFIELD POWER AND GAS, LLC | 16-183-NG
TRANSALTA ENERGY MARKETING CORP | 16-180-NG

SUMMARY: The Office of Fossil Energy (FE) of the Department of Energy gives notice that during November 2016, it issued orders granting authority to import and export natural gas, to import and export liquefied natural gas (LNG), and vacating authority. These orders are summarized in the attached appendix and may be found on the FE Web site at http://energy.gov/fe/listing-doefe-authorizationsorders-issued-2016.

They are also available for inspection and copying in the U.S. Department of Energy (FE-34), Division of Natural Gas Regulation, Office of Regulation and International Engagement, Office of Fossil Energy, Docket Room 3E-033, Forrestal Building, 1000 Independence Avenue SW., Washington, DC 20585, (202) 586-9478. The Docket Room is open between the hours of 8:00 a.m. and 4:30 p.m., Monday through Friday, except Federal holidays.

Issued in Washington, DC, on January 6, 2017.
John A. Anderson,
Director, Office of Regulation and International Engagement, Office of Oil and Natural Gas.

Appendix

DOE/FE Orders Granting Import/Export Authorizations
3619-A | 11/18/16 | 15-40-NG | Constellation Energy Services, Inc | Order 3619-A vacating blanket authority to import natural gas from Canada.
3653-A | 11/10/16 | 15-76-NG | CNE Gas Supply, LLC | Order 3653-A vacating blanket authority to import natural gas from Canada.
3790-A | 11/10/16 | 16-14-NG | CNE Gas Supply, LLC | Order 3790-A vacating blanket authority to import natural gas from Canada.
3841-A | 11/10/16 | 16-74-NG | BG Energy Merchants, LLC | Order 3841-A vacating blanket authority to import/export natural gas from/to Canada/Mexico.
3909 | 11/30/16 | 13-132-LNG | Magnolia LNG, LLC | Opinion and Order 3909 granting Long-term Multi-contract authority to export LNG by vessel from the Proposed Magnolia LNG Terminal to be Constructed in Lake Charles, Louisiana, to Non-free Trade Agreement Nations.
3918 | 11/04/16 | 16-142-NG | Northwestern Corporation d/b/a Northwestern Energy | Order 3918 granting blanket authority to import/export natural gas from/to Canada.
3919 | 11/04/16 | 16-159-NG | Energia Chihuahua, S.A. de C.V | Order 3919 granting blanket authority to export natural gas to Mexico.
3920 | 11/04/16 | 16-161-NG | GDF Suez Energy Marketing NA, Inc | Order 3920 granting blanket authority to export natural gas to Mexico.
3921 | 11/04/16 | 16-149-NG | Alliance Pipeline L.P. | Order 3921 granting blanket authority to import natural gas from Canada.
3922 | 11/10/16 | 16-148-NG | Access Gas Services (Ontario) Inc | Order 3922 granting blanket authority to import/export natural gas from/to Canada.
3923 | 11/10/16 | 16-150-NG | Boston Gas Co. (National Grid) | Order 3923 granting blanket authority to import/export natural gas from/to Canada.
3924 | 11/10/16 | 16-155-NG | Niagara Mohawk Power Corporation d/b/a National Grid | Order 3924 granting blanket authority to import/export natural gas from/to Canada.
3925 | 11/14/16 | 16-143-NG | SEMCO Energy, Inc., d/b/a SEMCO Energy Gas Company | Order 3925 granting blanket authority to import/export natural gas from/to Canada.
3926 | 11/14/16 | 16-145-NG | UGI Energy Services | Order 3926 granting blanket authority to import natural gas from Canada by pipeline and to import/export LNG from/to Canada by truck.
3927 | 11/14/16 | 16-160-NG | Vitol Inc. | Order 3927 granting blanket authority import/export natural gas from/to Canada.
3928 | 11/14/16 | 16-163-NG | Mexicana de Cobre, S.A. de C.V | Order 3928 granting blanket authority to export natural gas to Mexico.
3929 | 11/14/16 | 16-151-NG | Colonial Gas Company d/b/a National Grid | Order 3929 granting blanket authority to import/export natural gas from/to Canada.
3930 | 11/14/16 | 16-152-NG | The Narragansett Electric Company d/b/a National Grid | Order 3930 granting blanket authority to import/export natural gas from/to Canada.
3931 | 11/15/16 | 16-154-NG | KeySpan Gas East Corporation d/b/a National Grid | Order 3931 granting blanket authority to import/export natural gas from/to Canada.
3932 | 11/15/16 | 16-153-NG | The Brooklyn Union Gas Company d/b/a National Grid | Order 3932 granting blanket authority to import/export natural gas from/to Canada.
3933 | 11/15/16 | 16-162-NG | Energia de Baja California, S. de R.L. de C.V | Order 3933 granting blanket authority to export natural gas to Mexico.
3934 | 11/15/16 | 16-158-NG | Sequent Energy Management, L.P | Order 3934 granting blanket authority to import natural gas from Mexico and to export natural gas to Canada.
3935 | 11/17/16 | 16-166-NG | Exelon Generation Company, LLC | Order 3935 granting blanket authority to import/export natural gas from/to Canada.
3936 | 11/17/16 | 16-186-LNG | Spectrum LNG LLC | Order 3936 granting blanket authority to export LNG to Mexico by truck.
3937 | 11/17/16 | 16-98-LNG | Carib Energy | Opinion and Order 3937 Long-term Multi-contract authority to export LNG by vessel from the Proposed Magnolia LNG Terminal to be Constructed in Lake Charles, Louisiana, to Non-free Trade Agreement Nations; and also Record of Decision.
3938 | 11/28/16 | 16-170-NG | Powerex Corp. | Order 3938 granting blanket authority to import/export natural gas from/to Canada/Mexico.
3939 | 11/28/16 | 16-171-NG | BP Energy Company | Order 3939 granting blanket authority to import/export natural gas from/to Canada/Mexico.
3940 | 11/28/16 | 16-179-NG | Husky Marketing and Supply Company | Order 3940 granting blanket authority to import/export natural gas from/to Canada.
3941 | 11/28/16 | 16-168-NG | Stand Energy Corporation | Order 3941 granting blanket authority to import/export natural gas from/to Canada/Mexico.
3943 | 11/28/16 | 16-172-NG | Central Generadora Electrica Huinala, S. de R.L. de C.V.5 | Order 3943 granting blanket authority to export natural gas to Mexico.
3944 | 11/28/16 | 16-169-NG | Ferus Natural Gas Fuels (CNG), LLC | Order 3944 granting blanket authority to import/export natural gas from/to Canada.
3945 | 11/28/16 | 16-175-NG | Castleton Commodities Merchant Trading L.P | Order 3945 granting blanket authority to import/export natural gas from/to Canada/Mexico.
3946 | 11/28/16 | 16-174-NG | Direct Energy Business Marketing, LLC | Order 3946 granting blanket authority to import/export natural gas from/to Canada.
3947 | 11/28/16 | 16-167-NG | MC Global Gas Corporation | Order 3947 granting blanket authority to import LNG from various international sources by vessel.
3948 | 11/29/16 | 16-185-NG | United Energy Trading, LLC | Order 3948 granting blanket authority to import/export natural gas from/to Canada.
3949 | 11/29/16 | 16-184-NG | MPower Energy | Order 3949 granting blanket authority to import/export natural gas from/to Canada.
3950 | 11/29/16 | 16-183-NG | Mansfield Power and Gas, LLC | Order 3950 granting blanket authority to import/export natural gas from/to Canada.
3951 | 11/29/16 | 16-180-NG | TransAlta Energy Marketing Corp | Order 3951 granting blanket authority to import/export natural gas from/to Canada.

[FR Doc. 2017-00528 Filed 1-11-17; 8:45 am]

BILLING CODE 6450-01-P